DEPARTMENT OF ENERGY

Federal Energy Regulatory Commission

[FERC Docket No. PF05-14-000, CSLC File No. PRC 8378.2, BLM Reference No. CACA-42662]

California State Lands Commission and North Baja Pipeline, LLC; Notice of Intent/Preparation To Prepare a Joint Environmental Impact Statement/Report and Proposed Land Use Plan Amendment for the Proposed North Baja Pipeline Expansion Project, Request for Comments on Environmental Issues/Impacts, and Notice of Public Scoping Meetings

August 30, 2005.

The staffs of the Federal Energy Regulatory Commission (FERC or Commission) and the California State Lands Commission (CSLC) will jointly prepare an environmental impact statement/report (EIS/EIR) that will discuss the environmental impacts of North Baja Pipeline, LLC's (North Baja) proposed North Baja Pipeline Expansion Project (Project) in La Paz County, Arizona and Riverside and Imperial Counties, California. This notice explains the scoping process that will be used to gather input from the public and interested agencies on the Project. Your input will help us determine which issues/impacts need to be evaluated in the EIS/EIR. Please note that the scoping period for the Project will close on October 10, 2005.

Comments may be submitted in written form or verbally. In lieu of or in addition to sending written comments, you are invited to attend the public scoping meetings that have been scheduled in the Project area. These meetings are scheduled for September 28, 2005 in Blythe, California and September 29, 2005 in El Centro, California. Further instructions on how to submit written comments and additional details of the public scoping meetings are provided in the public participation section of this notice.

The FERC will be the lead Federal agency and the CSLC will be the state lead agency for the preparation of the EIS/EIR. The joint document, which will avoid much duplication of environmental analyses, will satisfy the requirements of both the National Environmental Policy Act (NEPA) and the California Environmental Quality Act (CEQA). The FERC will use the EIS/EIR to consider the environmental impacts that could result if it issues North Baja a Certificate of Public Convenience and Necessity and a Presidential Permit under sections 7 and 3, respectively, of the Natural Gas Act. The CSLC will use the document to consider North Baja's application for leasing the State's Sovereign and School Lands for the pipeline and the environmental impacts that could result from any part of the Project in California.

The Bureau of Land Management (BLM) is participating as a cooperating agency in the preparation of the EIS/EIR because the Project would cross Federal land under the jurisdiction of the Palm Springs, El Centro, and Yuma Field Offices. The EIS/EIR will be used by the BLM to meet its NEPA responsibilities in considering North Baja's application to amend its existing Right-of-Way Grant and obtain a Temporary Use Permit for the portion of the Project on Federal land. The BLM will also use the EIS/EIR to consider amending the California Desert Conservation Area (CDCA) Plan (as amended), which would be necessary for any pipeline construction outside of designated utility corridors, as well as amending the Yuma District Resource Management Plan (Yuma District Plan), which would be necessary for pipeline construction across the Milpitas Wash Special Management Area (SMA).

With this notice, the environmental staffs of the FERC, the CSLC, and the BLM (Agency Staffs) are asking other Federal, state, local, and tribal agencies with jurisdiction and/or special expertise with respect to environmental issues/impacts to participate as cooperating agencies in the preparation of the EIS/EIR. These agencies may choose to participate once they have evaluated North Baja's proposal relative to their responsibilities. Agencies that would like to request cooperating agency status should file a request in accordance with the instructions for filing comments described later in this notice.

This notice is being sent to affected landowners; Federal, state, and local government agencies and elected officials; environmental and public interest groups; Native American tribes; other interested parties; and local libraries and newspapers. The Agency Staffs encourage elected government representatives to notify their constituents of this proposed Project and encourage them to comment on their areas of concern.

If you are a landowner receiving this notice, you may be contacted by a North Baja representative about the acquisition of an easement to construct, operate, and maintain the proposed facilities. North Baja would seek to negotiate a mutually acceptable agreement. However, if the Project is approved by the FERC, that approval conveys with it the right of eminent domain. Therefore, if easement negotiations fail to produce an agreement, North Baja could initiate condemnation proceedings in accordance with California state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

North Baja, an indirect wholly owned subsidiary of TransCanada Corporation, has announced its intention to expand its existing natural gas pipeline system in La Paz County, Arizona and Riverside and Imperial Counties, California. The existing North Baja system is currently certificated by the FERC to transport 512,500 dekatherms per day of natural gas in a southbound direction. The expansion Project would allow for a northbound flow of gas. Once completed, the expanded system would be capable of transporting up to 2 billion dekatherms per day of natural gas from proposed liquefied natural gas (LNG) terminals in Baja California, Mexico, from an interconnect with the Gasoducto Bajanorte Pipeline at the U.S.-Mexico border, to an interconnect with the existing SoCal Gas Company (SoCal Gas) system in Blythe, California, for delivery into California and other southwestern U.S. markets.

The facilities proposed by North Baja include the following to expand the existing system:

• Up to 80 miles of buried 36-inch- or 42-inch-diameter pipeline loop ¹ (referred to as the “B-Line”) adjacent to its existing 30-inch- and 36-inch-diameter pipeline (referred to as the “A-Line”) in La Paz, Riverside, and Imperial Counties;

¹ A loop is a segment of pipeline that is usually installed adjacent to an existing pipeline and connected to it at both ends. The loop allows more gas to be moved through the system.

• One metering station at the interconnect with SoCal Gas in Blythe (Blythe Meter Station);

• One pig ² receiver at the existing Ehrenberg Compressor Station in La Paz County;

² A pig is an internal tool used to clean and dry a pipeline and/or to inspect it for damage or corrosion.

• One pig launcher and one pig receiver at the existing Ogilby Meter Station in Imperial County;

• Seven mainline valves along the right-of-way; and

• Modifications within the Ehrenberg Compressor Station and Ogilby Meter Station to allow for northbound flow.

The proposed route of the B-Line would cross approximately 59 miles of Federal land in Riverside and Imperial Counties. The majority of the route on Federal land follows a designated utility corridor. An amendment to the CDCA Plan would be needed, however, because the proposed route deviates from a designated utility corridor on BLM land at six locations in the CDCA, for a total length of approximately 20 miles. In the locations where the route deviates, it would primarily follow or abut other previously disturbed corridors established by roads such as State Route 78 or Ogilby Road and would lie within North Baja's existing permanent right-of-way. About 2.3 miles of the B-Line would cross the Milpitas Wash SMA. An amendment to the Yuma District Plan would be needed for this crossing because the plan prohibits the location of new utility facilities in SMAs.

In association with its proposed expansion, North Baja proposes to construct a 0.5-mile-long, buried 12-inch-diameter pipeline lateral ³ (Blythe Energy Interconnect Lateral) and associated metering and valving from the proposed Blythe Meter Station north to an interconnect with Blythe Energy's existing supply lateral near Interstate Highway 10 in Riverside County. The lateral would cross privately owned land adjacent to the existing SoCal Gas pipelines and parallel to the D-10-13 Canal and Riviera Drive. North Baja's preferred alignment would be on the east side of the canal; an alternative alignment on the west side of the canal is also under consideration. The Blythe Energy Interconnect Lateral would provide 82,320 dekatherms per day of natural gas to the existing Blythe Energy Facility west of Blythe. These volumes would provide diversification of natural gas supplies to Blythe Energy and would not increase the existing level of electrical generation.

³ A lateral is typically a smaller diameter pipeline that takes gas from the main system to deliver it to a customer, local distribution system, or another interstate transmission system.

North Baja also proposes to construct a new pipeline lateral and associated facilities in Imperial County from an interconnect near the Ogilby Meter Station to the existing Imperial Irrigation District (IID) El Centro Generating Station. The lateral would deliver up to 100 million cubic feet per day of natural gas to the IID El Centro Generating Station. The IID is considering a future expansion of the station to meet growing power demand.

The IID Lateral facilities proposed by North Baja include:

• Approximately 46 miles of buried 16-inch-diameter pipeline lateral (IID Lateral);

• One metering station at the interconnect with the IID El Centro Generating Station (IID El Centro Meter Station);

• One pig launcher at a tap off the A-Line near the Ogilby Meter Station;

• One pig receiver at the IID El Centro Generating Station; and

• Up to five block valves along the right-of-way.

North Baja's preferred route of the IID Lateral would cross approximately 30 miles of Federal land in Imperial County. The route on Federal land deviates from designated utility corridors at one location for about 10 miles, where it would parallel Interstate Highway 8. Most of the IID Lateral would be installed in public road rights-of-way.

Figures of the proposed facilities are provided in Appendix 1.⁴ Figure 1 depicts a general overview of the major Project facilities. Figure 1 also depicts North Baja's preferred route for the B-Line in the Palo Verde Valley (adjacent to the A-Line along 18th Avenue) and an alternative route under consideration in the Palo Verde Valley along 22nd Avenue. Figure 2 depicts North Baja's preferred route for the IID Lateral and various alternative routes under consideration.

⁴ The appendices referenced in this notice are not being printed in the Federal Register. A copy of this notice, including the appendices, is available on the FERC Internet Web site (http://www.ferc.gov) at the “eLibrary” link or from the FERC's Public Reference Room at (202) 502-8371. For instructions on connecting to eLibrary, refer to the end of this notice. A copy of this notice, including the appendices, is also available on the CSLC Internet Web site (http://www.slc.ca.gov). The appendices were sent to all those receiving this notice in the mail. Requests for detailed maps of the proposed facilities should be made directly to North Baja via e-mail at David_Dodson@TransCanada.com or by calling 1-866-220-0268.

North Baja anticipates that the final transportation precedent agreements ⁵ for capacity on the B-Line facilities will dictate the phasing of additional pipeline capacity; therefore, the B-Line facilities would be constructed in phases. It is anticipated that Phase I would be constructed in 2007; Phase II would be constructed in 2008 or 2009. North Baja states that a third phase may be necessary depending on future LNG import capability and market demand. The actual amount of pipeline loop that would be required in each phase is unknown at this time; however, North Baja expects that the entire 80 miles of its system may eventually need to be looped. The approximate duration of construction for each phase of the B-Line facilities is 4 months. Construction of the Blythe Energy Interconnect Lateral and associated metering and valving facilities is anticipated to occur in 2007 concurrent with construction of Phase I of the B-Line facilities. North Baja anticipates that construction of the IID Lateral facilities would occur in 2008 or 2009 and would take approximately 4 months.

The EIS/EIR will evaluate the potential environmental impacts of an 80-mile-long loop of the entire North Baja system as well as the proposed lateral facilities. The EIS/EIR will also evaluate the potential environmental impacts of facilities not within the jurisdiction of the lead agencies that may be associated with the proposed Project (e.g., the potential expansion of the IID El Centro Generating Station).

⁵ A precedent agreement is a binding contract under which one or both parties has the ability to terminate the agreement if certain conditions, such as receipt of regulatory approvals, are not met.

Land Requirements for Construction

Construction of the proposed facilities would require about 1,426.9 acres of land. Following construction, about 286.6 acres would be retained as permanent right-of-way and aboveground facility sites, although if the IID Lateral is built within county road rights-of-way as proposed, the amount of new permanent right-of-way would be reduced to approximately 90 to 100 acres. The remaining 1,140.3 acres of temporary workspace would be restored and allowed to revert to its former use.

B-Line Facilities

The typical construction right-of-way for the B-Line would be up to 100 feet wide, consisting of North Baja's existing 50-foot-wide permanent right-of-way and 50 feet of new temporary workspace. In most areas, about 60 to 80 feet of the construction right-of-way would overlap the previously disturbed right-of-way. Additional right-of-way width and temporary extra workspace would be required at certain feature crossings (e.g., roads, canals) and areas requiring special construction techniques (e.g., steep terrain, locations underlain by excessively sandy soils).

The B-Line would be generally installed within North Baja's existing 50-foot-wide right-of-way using a standard 25-foot offset from the existing A-Line. In the Palo Verde Valley, the B-Line would be installed to the south or east of the A-Line. For the remainder of the route, the B-Line would be typically west of the A-Line with the exception of a few areas where the B-Line would cross over to the east to avoid sensitive features. With a few exceptions, North Baja would not require additional permanent right-of-way.

The Blythe Meter Station would require about 4.0 acres of land for construction and operation. The pig receiver at the Ehrenberg Compressor Station would be installed within the existing fence line and would not require additional land. The modifications at the Ehrenberg Compressor Station to allow for northbound flow would also occur within the existing fence line except for about 400 feet of header pipe that would require a temporary disturbance of about 0.7 acre. The additional valving, piping, and pig launcher and receiver at the Ogilby Meter Station would require an expansion of the existing 200-foot by 200-foot site by 100 feet to a 200-foot by 300-foot site. The seven mainline valves would be collocated with the seven existing mainline valves and would require an expansion of the existing 50-foot by 50-foot sites to 75-foot by 150-foot sites.

Blythe Energy Interconnect Lateral Facilities

The typical construction right-of-way for the Blythe Energy Interconnect Lateral would be 80 feet wide. After construction, a 35-foot-wide permanent right-of-way would be retained. The associated metering and valving facilities would be installed within the 4.0-acre site for the proposed Blythe Meter Station.

IID Lateral Facilities

The typical construction right-of-way for the IID Lateral would be 80 feet wide. After construction, a 50-foot-wide permanent right-of-way would be retained. Most of the permanent right-of-way would be in public road rights-of-way. Additional right-of-way width and temporary extra workspace may be required at certain feature crossings and in areas requiring special construction techniques.

The IID El Centro Meter Station would be installed within the existing fence line of the IID El Centro Power Generating Station and would not require additional land. The pig receiver at the IID El Centro Power Generating Station would also be installed within the existing fence line and would not require additional land. The pig launcher and a block valve at the tap off the A-Line near the Ogilby Meter Station would require a 75-foot by 150-foot site. Up to four additional block valves along the right-of-way would each require 50-foot by 50-foot sites.

The EIS/EIR Process

NEPA requires the FERC to take into account the environmental impacts that could result from an action whenever it considers the issuance of a Certificate of Public Convenience and Necessity. The CSLC, as the state lead agency, is required to consider the same potential impacts within the State of California under the CEQA. The EIS/EIR the Agency Staffs are preparing will provide this information to the FERC and the CSLC.

Although no formal application has yet been filed with the FERC, the Agency Staffs have begun the environmental review of the Project in accordance with the FERC's Pre-Filing Process. The purpose of the Pre-Filing Process is to seek public and agency input early in the Project planning phase and encourage involvement by interested stakeholders to allow for the early identification and resolution of environmental issues/impacts. The Agency Staffs will work with all interested stakeholders to identify and attempt to address issues/impacts before North Baja files its application with the FERC. A diagram depicting the environmental review process for the Project is attached to this notice as Appendix 2.

The Agency Staffs have already started to meet with North Baja, jurisdictional agencies, and other interested stakeholders to discuss the Project and identify issues/impacts and concerns. On July 6 and 7, 2005, the Agency Staffs participated in public open houses sponsored by North Baja in the Project area to explain the NEPA/CEQA environmental review process to interested stakeholders and take comments about the Project. During September 2005, the Agency Staffs will be conducting interagency scoping meetings in the Project area to solicit comments and concerns from agencies having jurisdiction over the Project. By this notice, the Agency Staffs are formally announcing the preparation of the EIS/EIR and requesting additional agency and public comments to help focus the analysis in the EIS/EIR on the potentially significant environmental issues/impacts related to the proposed action.

The Agency Staffs' independent analyses of the issues/impacts will be included in a Draft EIS/EIR. The Draft EIS/EIR will be mailed to Federal, state, and local government agencies and elected officials; environmental and public interest groups; Native American tribes; affected landowners; other interested parties; local libraries and newspapers; and the FERC's official service list for this proceeding. A 90-day comment period will be allotted for review of the Draft EIS/EIR. The Agency Staffs will consider all timely comments on the Draft EIS/EIR and revise the document, as necessary, before issuing a Final EIS/EIR.

The BLM's Plan Amendment Process

As discussed above, the BLM will use the EIS/EIR to consider amending the CDCA Plan (as amended) and the Yuma District Plan. Publication of this notice formally initiates the plan amendment process and begins the scoping process.

The BLM regulations in Title 43 Code of Federal Regulations (CFR) part 1600 and the NEPA process detailed in the Council on Environmental Quality regulations in Title 40 CFR parts 1500-1508 guide preparation of plan amendments. The process is tailored to the anticipated level of public interest and potential for significant impacts.

Plan amendments (see Title 43 CFR part 1610.5-5) change one or more of the terms, conditions, or decisions of an approved land use plan. These decisions may include those relating to desired outcomes; measures to achieve desired outcomes, including resource restrictions; or land tenure decisions. Plan amendments are required to consider any proposal or action that does not conform to the plan.

An applicant may request that the BLM amend the land use plan to allow an otherwise non-conforming proposal. The amendment and any implementation actions (i.e., granting the Right-of-Way and Temporary Use Permit) may be considered together. However, at the decision stage, the land use plan decisions must be separated from the implementation decisions.

Additional information regarding the plan amendment process can be found in the BLM's Land Use Planning Handbook (http://www.blm.gov/nhp/200/wo210/landuse_hb.pdf).

Currently Identified Environmental Issues/Impacts

The EIS/EIR will discuss a wide range of impacts that could occur as a result of the construction and operation of the proposed Project. The Agency Staffs have already identified a number of specific issues/impacts that deserve attention based on a preliminary review of the proposed facilities, the environmental information provided by North Baja, and comments received to date. This preliminary list of issues/impacts may be changed based on your comments and the additional analysis of the Agency Staffs.

• Geology and Soils:

—Assessment of potential geological hazards.

—Effect on prime farmland soils.

—Desert construction and erosion control.

—Right-of-way restoration and revegetation in an arid environment.

—Evaluation of noxious weed control measures.

• Water Resources:

—Impact of dry crossings of irrigation canals and drains in the Palo Verde Irrigation District.

—Impact of open-cut crossings of dry washes.

• Wildlife and Vegetation:

—Effect on Sonoran creosote bush scrub and desert wash woodland.

—Effects on biodiversity.

• Special Status Species:

—Potential effect on federally and state-listed species, including the desert tortoise, flat-tailed horned lizard, Colorado Desert fringe-toed lizard, Mojave fringe-toed lizard, burrowing owl, and Peirson's milkvetch.

• Cultural Resources:

—Effect on historic and prehistoric sites.

—Native American and tribal concerns.

• Land Use, Recreation and Special Interest Areas, and Visual Resources:

—Temporary disturbance to residents.

—Impacts on public roads, transportation, and traffic.

—Potential conflict with authorized off-road vehicle use areas.

—Potential to increase access into sensitive areas.

—Amendments to the CDCA and Yuma District Plans.

—Visual impacts.

• Socioeconomics:

—Environmental justice analysis.

• Air Quality and Noise:

—Effects on local air quality and ambient noise from construction and operation of the proposed facilities.

—Regional air quality impacts.

• Reliability and Safety:

—Public health and safety risks associated with the operation of the Project.

—Evaluation of emergency response procedures.

• Alternatives:

—Assessment of existing systems and alternative routes to reduce or avoid environmental impacts.

—Deviations from the CDCA Plan designated Utility Corridor J.

• Cumulative Impacts:

—Potential conflict with other projects proposed along the All American Canal during the same time frame.

—Assessment of the effects of the proposed Project when combined with related impacts from other actions in the same region.

Public Participation

You are encouraged to become involved in this process and provide your specific comments or concerns about North Baja's proposal. Your comments should focus on the potential environmental effects, reasonable alternatives, and measures to avoid or lessen environmental impacts. The more specific your comments, the more useful they will be. To expedite the Agency Staffs' receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New User.” You will be asked to select the type of submission you are making. This type of submission is considered a “Comment on Filing.” Comments submitted electronically must be submitted by October 10, 2005.

If you wish to mail comments, please mail your comments so that they will be received in Washington, DC on or before October 10, 2005 and carefully follow these instructions:

Send an original and two copies of your letter to:

• Magalie R. Salas, Secretary, Federal Energy Regulatory Commission, 888 First St. NE.; Room 1A, Washington, DC 20426;

• Label one copy of your comments for the attention of the Gas Branch 1, DG2E;

• Reference Docket No. PF05-14-000 on the original and both copies; and

Send an additional copy of your letter to:

• Sarah Mongano, California State Lands Commission, 100 Howe Avenue, Suite 100 South, Sacramento, CA 95825.

Your letter to the CSLC should reference File No. PRC 8378.2.

Two public scoping meetings, which will be joint NEPA/CEQA scoping meetings, are designed to provide another opportunity to offer comments on the proposed Project. Interested groups and individuals are encouraged to attend the meetings and to present comments on the environmental issues/impacts they believe should be addressed in the EIS/EIR. A transcript of the meetings will be generated so that your comments will be accurately recorded. Both meetings will begin at 7 p.m. (PST), and are scheduled as follows:

Date | Location
Wednesday, September 28, 2005 | Blythe City Council Chamber, 235 North Broadway, Blythe, CA 92225, (760) 922-6161.
Thursday, September 29, 2005 | Vacation Inn, 2015 Cottonwood Circle, El Centro, CA 92243, (760) 352-9700.

Once North Baja formally files its application with the FERC, you may want to become an official party to the proceeding known as an “intervenor.” Intervenors play a more formal role in the process and are able to file briefs, appear at hearings, and be heard by the courts if they choose to appeal the FERC's final ruling. An intervenor formally participates in a FERC proceeding by filing a request to intervene. Instructions for becoming an intervenor are included in the User's Guide under the eFiling link on the FERC's Web site. Please note that you may not request intervenor status at this time. You must wait until a formal application is filed with the FERC.

Affected landowners and parties with environmental concerns may be granted intervenor status upon showing good cause by stating that they have a clear and direct interest in this proceeding that would not be adequately represented by any other parties. You do not need intervenor status to have your environmental comments considered.

Environmental Mailing List

If you received this notice, you are on the environmental mailing list for this Project and will continue to receive Project updates including the Draft and Final EIS/EIRs. If you want your contact information corrected or you do not want to remain on our mailing list, please return the Correct or Remove From Mailing List Form included as Appendix 3.

Availability of Additional Information

Additional information about the Project is available from the FERC's Office of External Affairs at 1-866-208-FERC or on the FERC Internet Web site (http://www.ferc.gov) using the eLibrary link. Click on the eLibrary link, click on “General Search,” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to the eSubscription link on the FERC Internet Web site.

Information concerning the involvement of the CSLC in the EIS/EIR process may be obtained from Sarah Mongano, Project Manager, at (916) 574-1889, or on the CSLC Internet Web site at http://www.slc.ca.gov.

Information concerning the proposed land use plan amendments and the involvement of the BLM in the EIS/EIR and plan amendment process may be obtained from Lynda Kastoll, Project Manager, at (760) 337-4421.

Finally, North Baja has established an Internet Web site at http://www.northbajapipeline.com/lng_expansion/. The Web site includes a description of the Project, a proposed Project schedule, North Baja's answers to frequently asked questions, and links to related documents. North Baja will continue to update its Web site with information about the Project.

Magalie R. Salas,
Secretary.

[FR Doc. E5-4859 Filed 9-6-05; 8:45 am]

BILLING CODE 6717-01-P